DEPARTMENT OF COMMERCE

National Oceanic and Atmospheric Administration

[I.D. 091002A]

Marine Mammals; File No. 1032-1679-00

AGENCY: National Marine Fisheries Service (NMFS), National Oceanic and Atmospheric Administration (NOAA), Commerce.

ACTION: Issuance of permit.

SUMMARY: Notice is hereby given that Robert A. Garrott, Ph.D., Ecology Department, Montana State University, 310 Lewis Hall, Bozeman, Montana 59717 (PI: Dr. Robert Garrott), has been issued a permit to take Antarctic pinnipeds for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376.

FOR FURTHER INFORMATION CONTACT: Ruth Johnson or Carrie Hubard (301)713-2289.

SUPPLEMENTARY INFORMATION: On July 12, 2002, notice was published in the Federal Register (67 FR 46179) that a request for a scientific research permit to take Antarctic pinnipeds, target species, Weddell seals (Leptonychotes weddellii), had been submitted by the above-named individual. The requested permit has been issued under the authority of the Marine Mammal Protection Act of 1972, as amended (16 U.S.C. 1361 et seq.), and the Regulations Governing the Taking and Importing of Marine Mammals (50 CFR part 216).

A Permit was issued to take Weddell seals by capture to tag, tissue and blood sample, instrument, and incidentally harass crabeater seal (Lobodon carcinophagus), leopard seal (Hydrurga leptonyx), Ross seal (Ommatophoca rossii), southern elephant seal (Mirounga leonina), and Antarctic fur seal (Archtocephalus gazella). Activities will occur in McMurdo Sound, Antarctica and the Ross Sea. The Holder is also authorized to import samples collected from live captures and hard parts collected from carcasses during the above-listed activities.

Dated: September 25, 2002.
Trevor Spradlin,
Acting Chief, Permits, Conservation and Education Division, Office of Protected Resources, National Marine Fisheries Service.

[FR Doc. 02-25329 Filed 10-3-02; 8:45 am]

BILLING CODE 3510-22-S